DEPARTMENT OF THE INTERIOR

National Park Service

National Register of Historic Places; Notification of Pending Nominations

Nominations for the following properties being considered for listing in the National Register were received by the National Park Service before June 2, 2001. Pursuant to section 60.13 of 36 CFR Part 60 written comments concerning the significance of these properties under the National Register criteria for evaluation may be forwarded to the National Register, National Park Service, 1849 C St. NW, NC400, Washington, DC 20240. Written comments should be submitted by July 3, 2001.

Carol D. Shull,
Keeper of the National Register of Historic Places.

CALIFORNIA

Butte County

Hazel Hotel,

850, 860, 880, 890 Hazel St., and 602, 608, 620 Kentuckey,

Gridley, 01000705

DISTRICT OF COLUMBIA

District of Columbia

Stevens, Thaddeus, School,

1050 Twenty-First St., NW,

Washington, 01000706

GEORGIA

Cobb County

Collins Avenue Historic District,

Collins Ave.,

Acworth, 01000707

MICHIGAN

St. Joseph County

Marantette Bridge,

Railroad St., Buckner Rd. over St. Joseph R.,

Mendon, 01000708

MISSOURI

Buchanan County

Century Apartments,

(St. Joseph, Missouri MPS)

627 N. 25th St., St. Joseph, 01000712

St. Joseph's Commerce and Banking Historic District, Roughly bounded by 3rd, 91t, Francis, and Edmonds St.,

St. Joseph, 01000709

NEBRASKA

Cedar County

Immaculate Conception Catholic Church and Rectory,

102 and 108 E 9th St.,

St. Helena, 01000711

Dawson County

Midway Ranch House,

Address Restricted,

Gothenburg, 01000715

Garden County

Rackett Grange Hall #318,

9250 NE 193,

Lewellen, 01000713

Red Willow County

Keystone Hotel,

402 Norris Ave.,

McCook, 01000710

Washington County

Old McDonald Farm,

Address Restricted,

Blair, 01000714

NEW YORK

Monroe County

Dayton's Corners School,

1363 Creek St.,

Penfield, 01000716

Ulster County

Oaterhoudt Stone House,

1880 NY 32,

Saugerties, 01000717

VIRGINIA

Albemarle County

Anchorage, The,

1864 Anchorage Farm,

Charlottesville, 01000688

Bedford County

Twin Oaks Farm,

VA 2,

Bedford County, 01000704

Fairfax County

Manassas Gap Railroad Independent Line,

7504 Royce St.,

Annandale, 01000700

Fluvanna County

Oaks, The,

5025 Tabscott Rd.,

Kents Store, 01000696

Frederick County

Frederick County Courthouse,

20 N. Loudoun St.,

Winchester, 01000690

Old Stone Church,

Approx. 1 mi. W of jct. of VA 671 and VA 739,

Whitehall, 01000689

Madison County

James City Historic District,

US 29,

Madison, 01000691

Norfolk Independent city

North Ghent,

Bounded by Princess Anne Rd., Olney Rd., Colonia Ave., and Colley Ave.,

Norfolk (Independent City), 01000693

Saint Mary's Catholic Cemetery,

3000 Church St.,

Norfolk (Independent City), 01000694

Winona,

Roughly bounded by Ashland Circle, Ashland Ave., Elmere Place, Huntington

Crescent, Holland Ave., and the Lafayette,

Norfolk (Independent City), 01000702

Northumberland County

Cobbs Hall,

582 Cobbs Hall Ln.,

Kilmamock, 01000699

Orange County

Orange High School,

224 Belleview Ave.,

Orange, 01000692

Rockwood,

12225 Chicken Mountain Rd.,

Montpelier Station, 01000695

Pittsylvania County

Chatham Historic District,

Main, Payne, Pruden, Reid, Whittle Sts.; Lanier Ave., Court Place; Gilmer Dr.,

Chatham, 01000698

Richmond Independent city

Cary Street Park and Shop Center,

3120-3158 West Cary St.,

Richmond (Independent City), 01000701

Smyth County

Beatie, A.C., House,

249 W. Lee Hwy.,

Chilhowie, 01000697

Washington County

Solar Hill Historic District,

Roughly along Johnson, Solar, West, King, Cumberland, and Sycamore Sts.,

Bristol, 01000703

[FR Doc. 01-15300 Filed 6-15-01; 8:45 am]

BILLING CODE 4310-70-P